DEPARTMENT OF TRANSPORTATION

Federal Aviation Administration

14 CFR Part 71

[Airspace Docket No. 98-AGL-78]

Modification of Class E Airspace; Yankton, SD

AGENCY: Federal Aviation Administration (FAA), DOT.

ACTION: Final rule.

SUMMARY: This action modifies Class E airspace at Yankton, SD. This action amends the effective hours of the Class E surface area from one (1) hour per day to twenty-four (24) hours per day to accommodate regular air carrier operations that occur outside the current times of operation of the surface area. The purpose of this action is to afford an increased level of safety during instrument flight operations for the commercial air carrier operations at the Chan Gurney Municipal Airport.

EFFECTIVE DATE: 0901 UTC, August 10, 2000.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Tuesday, January 19, 1999, the FAA proposed to amend 14 CFR part 71 to modify Class E airspace at Yankton, SD (64 FR 2864). The proposal was to increase the effective hours of operation from one (1) hour per day to twenty-four (24) hours per day to accommodate air carrier operations for Chan Gurney Municipal Airport. Interested parties were invited to participate in this rulemaking proceeding by submitting written comments on the proposal to the FAA. No comments objecting to the proposal were received. Class E airspace areas designated as a surface area for an airport published in paragraph 6002 of FAA Order 7400.9G dated September 1, 1999, and effective September 16, 1999, which is incorporated by reference in 14 CFR 71.1. The Class E airspace designations listed in this document will be published subsequently in the Order.

The Rule

This amendment to 14 CFR part 71 modified Class E airspace at Yankton, SD, by amending the hours of operation of the Class E airspace for Chan Gurney Municipal Airport. The area will be depicted on appropriate aeronautical charts.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority : 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

* * * * *

Paragraph 6002 Class E airspace areas designated as a surface area for an airport.

AGL SD E2 Yankton, SD [Revised]

Yankton, Chan Gurney Municipal Airport, SD

(Lat. 42° 55′ 00″ N., long. 97° 23′ 09″ W.)

Yankon VOR/DME

(Lat. 42° 55′ 06″ N., long. 97° 23′ 06″ W.)

Within an 4.1-mile radius of the Chan Gurney Municipal Airport, and within 2.4 miles each side of the Yankton VOR/DME 319° radial extending from the 4.1-mile radius to 7.4 miles northwest of the VOR/DME and within 2.4 miles southwest of the Yankton VOR/DME 145° radial and 2.8 miles northeast of the Yankton VOR/DME 145° radial extending from the 4.1-mile radius to 7.4 miles southeast of the VOR/DME.

* * * * *

Issued in Des Plaines, Illinois on April 26, 2000.
Christopher R. Blum,
Manager, Air Traffic Division.

[FR Doc. 00-12165 Filed 5-12-00; 8:45 am]

BILLING CODE 4910-13-M